DEPARTMENT OF HOMELAND SECURITY

Federal Emergency Management Agency

[Docket ID FEMA-2015-0001]

Final Flood Hazard Determinations

AGENCY: Federal Emergency Management Agency, DHS.

ACTION: Final notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The effective date of April 19, 2016 which has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at www.msc.fema.gov by the effective date indicated above.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at www.msc.fema.gov.

The flood hazard determinations are made final in the watersheds and/or communities listed in the table below.

(Catalog of Federal Domestic Assistance No. 97.022, “Flood Insurance.”)

Dated: November 23, 2015.
Roy E. Wright,
Deputy Associate Administrator for Insurance and Mitigation, Department of Homeland Security, Federal Emergency Management Agency.

I. Non-watershed-based studies:

Community | Community map repository address
Marion County, Indiana (All Jurisdictions)
Docket No.: FEMA-B-1426
City of Beech Grove | City Hall, 806 Main Street, Beech Grove, IN 46107.
City of Indianapolis | City Hall, 1200 Madison Avenue, Suite 100, Indianapolis, IN 46225.
City of Lawrence | City Hall, 9001 East 59th Street, Lawrence, IN 46216.
Town of Speedway | Town Hall, 1450 North Lynhurst Drive, Speedway, IN 46224.
Calhoun County, Iowa, and Incorporated Areas
Docket No.: FEMA-B-1436
City of Farnhamville | City Hall, 240 Hardin Street, Farnhamville, IA 50538.
City of Knierim | Fire Station, 203 Center Street, Knierim, IA 50552.
City of Lake City | City Hall, 105 North Center Street, Lake City, IA 51449.
City of Lohrville | City Hall, 605 2nd Street, Lohrville, IA 51453.
City of Manson | City Hall, 1015 13th Street, Manson, IA 50563.
City of Pomeroy | City Hall, 114 South Ontario Street, Pomeroy, IA 50575.
City of Rinard | Calhoun County Engineer's Office, 416 4th Street, Suite 7, Rockwell City, IA 50579.
City of Rockwell City | City Hall, 335 Main Street, Rockwell City, IA 50579.
City of Somers | Calhoun County Engineer's Office, 416 4th Street, Suite 7, Rockwell City, IA 50579.
Unincorporated Areas of Calhoun County | Calhoun County Engineer's Office, 416 4th Street, Suite 7, Rockwell City, IA 50579.
Greene County, Iowa, and Incorporated Areas
Docket No.: FEMA-B-1436
City of Churdan | City Hall, 507 Sand Street, Churdan, IA 50050.
City of Jefferson | City Hall, 220 North Chestnut Street, Jefferson, IA 50129.
City of Paton | Greene County Courthouse, 114 North Chestnut Street, Jefferson, IA 50129.
City of Ralston | Greene County Courthouse, 114 North Chestnut Street, Jefferson, IA 50129.
City of Rippey | Greene County Courthouse, 114 North Chestnut Street, Jefferson, IA 50129.
Unincorporated Areas of Greene County | Greene County Courthouse, 114 North Chestnut Street, Jefferson, IA 50129.
Marquette County, Michigan (All Jurisdictions)
Docket No.: FEMA-B-1292
Charter Township of Chocolay | Chocolay Township Office, 5010 U.S. Highway 41 South, Marquette, MI 49855.
Charter Township of Marquette | Charter Township Hall, 1000 Commerce Drive, Marquette, MI 49855.
City of Marquette | City Hall, 300 West Baraga Avenue, Marquette, MI 49855.
Township of Ely | Ely Township Hall, 1555 County Road 496, Ishpeming, MI 49849.
Township of Powell | Powell Township Hall, 101 Bensinger Street, Big Bay, MI 49808.
Township of Sands | Sands Township Hall, 987 South Michigan Route 553, Gwinn, MI 49841.
Township of Skandia | Township Hall, 224 Kreiger Drive, Skandia, MI 49885.
Township of West Branch | West Branch Township Hall, 1016 County Road 545 North, Skandia, MI 49885.
Summit County, Ohio, and Incorporated Areas
Docket No.: FEMA-B-1315 and B-1452
City of Akron | City Hall, 166 South High Street, Akron, OH 44308.
City of Barberton | Engineering Department, 576 West Park Avenue, Barberton, OH 44203.
City of Cuyahoga Falls | Engineering Department, 2310 Second Street, Cuyahoga Falls, OH 44221.
City of Fairlawn | City Hall, 3487 South Smith Road, Fairlawn, OH 44333.
City of Green | Central Administration Building, 1755 Town Park Boulevard, Uniontown, OH 44685.
City of Hudson | City Hall, 115 Executive Parkway, Suite 400, Hudson, OH 44236.
City of Munroe Falls | City Hall, 43 Munroe Falls Avenue, Munroe Falls, OH 44262.
City of New Franklin | City Hall, 5611 Manchester Road, Akron, OH 44319.
City of Norton | Building and Zoning Department, 4060 Columbia Woods Drive, Norton, OH 44203.
City of Stow | Engineering Department, 3760 Darrow Road, Stow, OH 44224.
City of Tallmadge | Planning and Zoning Department, 46 North Avenue, Tallmadge, OH 44278.
City of Twinsburg | City Hall, 10075 Ravenna Road, Twinsburg, OH 44087.
Unincorporated Areas of Summit County | Building Standards Department, 1030 East Tallmadge Avenue, Akron, OH 44310.
Village of Boston Heights | Village Hall, 45 East Boston Mills Road, Boston Heights, OH 44236.
Village of Clinton | Village Hall, 7871 Main Street, Clinton, OH 44216.
Village of Lakemore | Municipal Building, 1400 Main Street, Lakemore, OH 44250.
Village of Mogadore | Village Hall, 135 South Cleveland Avenue, Mogadore, OH 44260.
Village of Peninsula | Village Hall, 1582 Main Street, Peninsula, OH 44264.
Village of Reminderville | Village Hall, 3382 Glenwood Boulevard, Reminderville, OH 44202.
Village of Richfield | Planning and Zoning Department, 4410 West Streetsboro Road, Richfield, OH 44286.
Village of Silver Lake | Village Hall, 2961 Kent Road, Silver Lake, OH 44224.

[FR Doc. 2015-31378 Filed 12-11-15; 8:45 am]

BILLING CODE 9110-12-P